SECURITIES AND EXCHANGE COMMISSION

[File No. 500-1]

Life Care Medical Devices Ltd., and New Leaf Brands, Inc.; Order of Suspension of Trading

October 16, 2015.

It appears to the Securities and Exchange Commission that there is a lack of current and accurate information concerning the securities of Life Care Medical Devices Ltd. (CIK No. 1508363), a defaulted Nevada corporation with its principal place of business listed as New Smyrna Beach, Florida, with stock quoted on OTC Link (previously, “Pink Sheets”) operated by OTC Markets Group, Inc. (“OTC Link”) under the ticker symbol LCMD, because it has not filed any periodic reports since the period ended January 31, 2013. On October 22, 2014, the Division of Corporation Finance sent Life Care Medical Devices a delinquency letter requesting compliance with its periodic filing obligations, but the letter was returned because of Life Care Medical Devices' failure to maintain a valid address on file with the Commission, as required by Commission rules (Rule 301 of Regulation S-T, 17 CFR 232.301 and Section 5.4 of EDGAR Filer Manual).

It appears to the Securities and Exchange Commission that there is a lack of current and accurate information concerning the securities of New Leaf Brands, Inc. (CIK No. 806175), a revoked Nevada corporation with its principal place of business listed as Southbury, Connecticut, with stock quoted on OTC Link under the ticker symbol NLEF, because it has not filed any periodic reports since the period ended September 30, 2012. On June 9, 2014, New Leaf Brands received a delinquency letter sent by the Division of Corporation Finance requesting compliance with its periodic filing obligations.

The Commission is of the opinion that the public interest and the protection of investors require a suspension of trading in the securities of the above-listed companies.

Therefore, it is ordered, pursuant to Section 12(k) of the Securities Exchange Act of 1934, that trading in the securities of the above-listed companies is suspended for the period from 9:30 a.m. EDT on October 16, 2015, through 11:59 p.m. EDT on October 29, 2015.

By the Commission.
Brent J. Fields,
Secretary.

[FR Doc. 2015-26718 Filed 10-16-15; 11:15 am]

BILLING CODE 8011-01-P